DEPARTMENT OF TRANSPORTATION

Federal Aviation Administration

14 CFR Part 39

[Docket No. FAA-2005-21691; Directorate Identifier 2005-NE-13-AD]

RIN 2120-AA64

Airworthiness Directives; Hamilton Sundstrand Model 14RF-19 Propellers

AGENCY: Federal Aviation Administration (FAA), Department of Transportation (DOT).

ACTION: Notice of proposed rulemaking (NPRM).

SUMMARY: The FAA proposes to adopt a new airworthiness directive (AD) for Hamilton Sundstrand (formerly Hamilton Standard Division of United Technologies Corporation) Model 14RF-19 propellers. This proposed AD would require replacing certain actuator yokes with improved actuator yokes. This proposed AD results from certain propeller system actuator yoke arms breaking during flight. We are proposing this AD to prevent actuator yoke arms breaking during flight, which could cause high propeller vibration, requiring the pilot to feather the propeller, and could contribute to reduced controllability of the airplane.

DATES: We must receive any comments on this proposed AD by February 6, 2006.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

You can get the service information identified in this proposed AD from Hamilton Sundstrand, A United Technologies Company, Publications Manager, Mail Stop 2AM-EE50, One Hamilton Road, Windsor Locks, CT 06096.

You may examine the comments on this proposed AD in the AD docket on the Internet at http://dms.dot.gov.

FOR FURTHER INFORMATION CONTACT: Frank Walsh, Aerospace Engineer, Boston Aircraft Certification Office, FAA, Engine and Propeller Directorate, 12 New England Executive Park, Burlington, MA 01803-5299; telephone (781) 238-7158; fax (781) 238-7170.

SUPPLEMENTARY INFORMATION:

Comments Invited

We invite you to send us any written relevant data, views, or arguments regarding this proposal. Send your comments to an address listed under ADDRESSES. Include “Docket No. FAA-2005-21691; Directorate Identifier 2005-NE-13-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received, and any final disposition in person at the DMS Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Discussion

Hamilton Sundstrand notified us that there have been four occurrences of propeller system actuator yoke arms, part number (P/N) 810436-2, breaking during flight. A high-stress concentration that can exist at the intersection of the wear plate face of the forward yoke ear and the existing machining cut for the anti-torque and bushing caused these breaks. This condition, if not corrected, could result in high propeller vibration, requiring the pilot to feather the propeller, and could contribute to reduced controllability of the airplane.

Relevant Service Information

We have reviewed and approved the technical contents of Hamilton Sundstrand Service Bulletin 14RF-19-61-113, Revision 1, dated September 2, 2003, that describes procedures for installing a new propeller system actuator yoke arm, P/N 810436-3.

FAA's Determination and Requirements of the Proposed AD

We have evaluated all pertinent information and identified an unsafe condition that is likely to exist or develop on other products of this same type design. We are proposing this AD, which would require replacing the actuator yoke arm, P/N 810436-2 on model 14RF-19 propellers with an improved actuator yoke arm, P/N 810436-3. The proposed AD would require you to use the service information described previously to perform these actions.

Costs of Compliance

We estimate that 80 actuator yoke arms installed on airplanes of U.S. registry would be affected by this proposed AD. We also estimate that the required parts would cost approximately $1,350 per propeller and that it would take about 2 work hours per propeller to perform the proposed actions, and that the average labor rate is $65 per work hour. Based on these figures, we estimate the total cost of the proposed AD to be $118,400.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Hamilton Sundstrand: Docket No. FAA-2005-21691; Directorate Identifier 2005-NE-13-AD.

Comments Due Date

(a) The Federal Aviation Administration (FAA) must receive comments on this airworthiness directive (AD) action by February 6, 2006.

Affected ADs

(b) None.

Applicability

(c) This AD applies to Hamilton Sundstrand Model 14RF-19 propellers with propeller system actuator yoke arms, part number (P/N) 810436-2, which might be installed in actuator assemblies P/N 790119-6. These propellers are installed on, but not limited to, SAAB 340 airplanes.

Unsafe Condition

(d) This AD results from propeller system actuator yoke arms breaking during flight. We are issuing this AD to prevent actuator yoke arms breaking during flight, which could cause high propeller vibration, requiring the pilot to feather the propeller, and could contribute to reduced controllability of the airplane.

Compliance

(e) You are responsible for having the actions required by this AD performed within 60 days after the effective date of this AD, unless the actions have already been done.

Install Improved Actuator Yoke Arms

(f) Using the Accomplishment Instructions of Hamilton Sundstrand Service Bulletin 14RF-19-61-113, Revision 1, dated September 2, 2003, replace all actuator yoke arms, P/N 810436-2 with improved actuator yoke arms, P/N 810436-3.

(g) Mark newly installed actuators using the Accomplishment Instructions of Hamilton Sundstrand Service Bulletin 14RF-19-61-113, Revision 1, dated September 2, 2003.

(h) After the effective date of this AD, do not install any actuator yoke arms, P/N 810436-2, into any propeller assembly.

Alternative Methods of Compliance

(i) The Manager, Boston Certification Office, has the authority to approve alternative methods of compliance for this AD if requested using the procedures found in 14 CFR 39.19.

Related Information

(j) None.

Issued in Burlington, Massachusetts, on December 2, 2005.
Peter A. White,
Acting Manager, Engine and Propeller Directorate, Aircraft Certification Service.

[FR Doc. 05-23770 Filed 12-7-05; 8:45 am]

BILLING CODE 4910-13-P